POSTAL REGULATORY COMMISSION

[Docket No. MC2012-30; Order No. 1386]

Changes in Postal Rates

AGENCY: Postal Regulatory Commission.

ACTION: Notice.

SUMMARY: The Commission is noticing a recently-filed Postal Service request to add a padded flat rate envelope to its Express Mail International product. This notice addresses procedural steps associated with the filing.

DATES: Replies to Postal Service response to information request are due: July 11, 2012.

ADDRESSES: Submit comments electronically via the Commission's Filing Online system at http://www.prc.gov. Commenters who cannot submit their views electronically should contact the person identified in FOR FURTHER INFORMATION CONTACT by telephone for advice on alternatives to electronic filing.

FOR FURTHER INFORMATION CONTACT: Stephen L. Sharfman, General Counsel at 202-789-6820.

SUPPLEMENTARY INFORMATION: Introduction. On June 25, 2012, the Postal Service filed notice with the Commission of a proposal characterized as a minor classification change under 39 CFR parts 3090 and 3091, along with a conforming revision to the Mail Classification Schedule (MCS).¹ The change adds the Express Mail International (EMI) Padded Flat Rate Envelope as a Flat Rate Envelope option in the EMI product category. Notice at 1. The stated purpose of the change is to increase customer Flat Rate Envelope options.

¹ Notice of United States Postal Service of Classification Changes, June 25, 2012 (Notice).

In support of its filing, the Postal Service states that the dimensions of the EMI Padded Flat Rate Envelope (12.5 inches by 9.5 inches) are the same as those of the EMI Flat Rate Envelope. It states that the price for the Padded Flat Rate Envelope ($29.25 to Canada and $38.00 to all other countries that offer EMI service) is the same as the price for the current EMI Flat Rate Envelope and EMI Legal Flat Rate Envelope. In addition, it notes that all standards that apply to the EMI Flat Rate Envelope and EMI Legal Flat Rate Envelope (e.g., maximum weight limit of 20 pounds) apply to the EMI Padded Flat Rate Envelope. Id. The Postal Service asserts that the changes are consistent with 39 U.S.C. 3642 and should be incorporated by the Commission into the MCS. Id. at 2.

The Commission establishes Docket No. MC2012-30 for consideration of matters related to the Postal Service's filing. It appoints Kenneth E. Richardson to represent the interests of the general public (Public Representative) in this proceeding. Interested persons may comment on the proposed change and on the Postal Service's response to the matter addressed below no later than July 11, 2012.

Information Request. The Postal Service notes that it filed the instant notice (affecting international mail offerings) one business day after filing a notice of changes in rates of general applicability and concomitant classification changes for a domestic Express Mail Padded Flat Rate Envelope. Id. (citing notice of the United States Postal Service of Changes in Rates of General Applicability for a Competitive Product, Established in Governors' Decision No. 12-1, PRC Docket No. CP2012-39, June 22, 2012).²

² The notices referred to in this order can be accessed via the Commission's Web site, (http://www.prc.gov).

The instant notice would likewise appear to effect a change in rates of general applicability. Accordingly, the Postal Service is requested to address, no later than July 6, 2012, why a filing similar to that made in Docket No. CP2012-39 was not made with respect to the change in EMI rates. If, on reconsideration, the instant filing should have been filed pursuant to 39 CFR part 3015, the Postal Service may file the supporting material in the instant docket.

The notices referred to in this order can be accessed via the Commission's Web site, (http://www.prc.gov).

It is ordered:

1. The Commission establishes Docket No. MC2012-30 for consideration of matters raised by the Postal Service's notice.

2. The Postal Service's response to the Information Request posed in the body of this order is due no later than July 6, 2012.

3. Comments addressing matters raised in the Postal Service's notice and the Information Request posed in the body of this order are due no later than July 11, 2012.

4. Pursuant to 39 U.S.C. 505, Kenneth E. Richardson is appointed to serve as the officer of the Commission (Public Representative) to represent the interests of the general public in this proceeding.

5. The Secretary shall arrange for publication of this order in the Federal Register.

By the Commission.
Shoshana M. Grove,
Secretary.

[FR Doc. 2012-16434 Filed 7-3-12; 8:45 am]

BILLING CODE 7710-FW-P